DEPARTMENT OF HOUSING AND URBAN DEVELOPMENT

[Docket No.-4574-FA-03]

Announcement of Funding Awards for the Indian Housing Drug Elimination Program for Fiscal Year 2000

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department in a competition for funding under the Fiscal Year 2000 Notice of Funding Availability (NOFA) for the Indian Housing Drug Elimination Program (IHDEP). This announcement contains the consolidated names and addresses of the award recipients under the IHDEP.

FOR FURTHER INFORMATION CONTACT: For questions concerning the Indian Housing Drug Elimination Program awards, contact Tracy Outlaw of Native Programs, Denver Program Office, 1999 Broadway, Suite 3390, Denver, CO 80202, telephone (303) 675-1600 (this is not a toll-free number) or the Indian Housing Drug Elimination Program Resource Center at 1-800-839-5561. Hearing or speech-impaired individuals may access this number via TTY by calling the toll-free Federal Information Relay Service at 1-800-877-8339.

SUPPLEMENTARY INFORMATION: This program provides grants to Indian tribes and tribally designated housing entities (TDHEs) to eliminate drugs and drug-related crime in American Indian and Alaskan Native communities.

The FY 2000 awards announced in this Notice were selected for funding in a competition announced in a NOFA published in the Federal Register on Thursday, May 11, 2000 (65 FR 30502). Applications were scored and selected for funding based on the selection criteria in that Notice and a national competition.

The amount appropriated in FY 2000 to fund IHDEP was $22 million in FY 1999 ($11 million) and FY 2000 ($11 for million) in funds was awarded to tribes and TDHEs under the IHDEP. In accordance with Section 102(a)(4)(C) of the Department of Housing Development Reform Act of 1989 (103 Stat. 1987, 42 U.S.C. 3545), the Department is publishing the names, addresses, and amounts of the 57 awards made under the national competition in appendix A to this document.

Dated: December 13, 2000.
Milan Ordinec,
Acting General Deputy Assistant Secretary for Public and Indian Housing.

Awarded Applicants—FY2000 Indian Housing Drug Elimination Program
Applicant name | Contact | Address | City | State | Zip code | Funding | Units
1. Kodiak Island Housing Authority | Susan Russell | 3137 Mill Bay Road | Kodiak | AK | 99615 | $184,800 | 308
2. Calista Corporation | Matthew Nicolai | 301 Calista Court | Anchorage | AK | 99518-3028 | 695,760 | 1,338
3. North Pacific Rim Housing Authority | Olen Harris | 8300 King Street | Anchorage | AK | 99518-3066 | 141,600 | 236
4. Cook Inlet Housing Authority | Carol Gore | 3510 Spenard Rd., St. 201 | Anchorage | AK | 99503 | 274,200 | 457
5. Bristol Bay Housing Authority | David McClure | P.O. Box 50 | Dillingham | AK | 99576 | 184,800 | 308
6. Tlingit Haida Regional Housing Authority | Blake Kazama | P.O. Box 32237, 5446 Jenkins Drive | Juneau | AK | 99803-2237 | 309,053 | 612
7. San Carlos Housing Authority | Eugene Duncan | P.O. Box 740 | Peridot | AZ | 85542 | 389,292 | 888
8. Gila River Housing Authority | Charles Rogers | P.O. Box 528 | Sacaton | AZ | 85247 | 633,000 | 1,055
9. Navajo Nation | Kelsey Begaye | P.O. Box 9000 | Window Rock | AZ | 86515 | 3,000,000 | 7,446
10. White Mountain Apache Housing Authority | Victor Velasquez | P.O. Box 1270 | Whiteriver | AZ | 85941 | 748,800 | 1,248
11. Salt River Community Housing Division | Valjean Calnimptewa | 10177 E. Osborn Road | Scottsdale | AZ | 85256 | 282,600 | 471
12. All Mission Indian Housing Authority | Sharon Herrera | 365 West 2nd Street, Suite 203 | Escondido | CA | 92025 | 296,400 | 494
13. Round Valley Indian Housing Authority | Clifford Sloan | P.O. Box 682 | Covelo | CA | 95428 | 68,400 | 114
14. Fort Independence Tribe | Vernon Miller | P.O. Box 67 | Independence | CA | 93526 | 25,000 | 12
15. Southern Ute Housing Authority | Kevin Wilson | P.O. Box 447 | Ignacio | CO | 81137 | 111,329 | 208
16. Seminole Tribe of Florida | James Billie | 6300 Stirling Road | Hollywood | FL | 33024 | 280,200 | 467
17. Nez Perce Tribal Housing Authority | Cielo Gibson | P.O. Box 188 | Lapwai | ID | 83540 | 172,200 | 287
18. Sault Ste. Marie Tribe of Chippewa Indians TDHE | Bernard Bouschor | 2218 Shunk Road | Sault Ste. Marie | MI | 49783 | 259,200 | 432
19. Grand Traverse Band of Ottawa and Chippewa Indians | Dora Willis | 2605 NW Bay Shore Drive | Peshawbestown | MI | 49682 | 36,000 | 60
20. Bay Mills Indian Community Housing Authority | L. John Lufkins | 12140 W. Lakeshore Drive | Brimley | MI | 49715 | 123,000 | 205
21. Red Lake Reservation Housing Authority | Jane Barrett | P.O. Box 219, Highway 1 East | Red Lake | MN | 56671 | 286,200 | 477
22. Mille Lacs Band of Ojibwe Housing Authority | Raymond Kegg | 43408 Odena Drive | Onamia | MN | 56359 | 81,000 | 135
23. Leech Lake Housing Authority | Harry Entwistle | Cass Lake | Cass | MN | 56633 | 282,000 | 470
24. White Earth Reservation Tribal Council | Doyle Turner | P.O. Box 418 | White Earth | MN | 56591 | 220,800 | 368
25. Choctaw Housing Authority | Morris Carpenter | P.O. Box 6088 | Philadelphia | MS | 39350 | 520,200 | 867
26. Salish and Kootenai Housing Authority | Robert Gauthier | P.O. Box 38 | Pablo | MT | 59855 | 395,400 | 659
27. Chippewa Cree Housing Authority | Donna Hay | RR 1 Box 567 | Box Elder | MT | 59521 | 309,000 | 515
28. Blackfeet Housing | Roger Grounds | P.O. Box 449 | Browning | MT | 59417 | 694,200 | 1,157
29. Qualla Housing Authority | Catherine Lambert | P.O. Box 1749 | Cherokee | NC | 28719 | 552,600 | 921
30. Fort Berthold Housing Authority | Barb Baker | P.O. Box 310 | New Town | ND | 58763 | 404,400 | 674
31. Mescalero Apache Housing Authority | Sara Misquez | P.O. Box 227 | Mescalero | NM | 88340 | 207,600 | 346
32. Pyramid Lake Paiute Tribe | Norman Harry | P.O. Box 256 | Nixon | NV | 89424 | 137,830 | 263
33. Reno-Sparks Indian Colony Tribal Council | Arlan Melendez | 98 Colony Rd | Reno | NV | 89502 | 104,570 | 195
34. Absentee Shawnee Housing Authority | Glenn Edwards | P.O. Box 425, 107 N. Kimberly | Shawnee | OK | 74802-0425 | 436,200 | 727
35. Housing Authority of the Choctaw Nation | Russell Sossamon | P.O. Box G | Hugo | OK | 74743 | 1,107,600 | 2,130
36. Comanche Nation Housing Authority | Don Parker | P.O. Box 1671, 216 S.E. “J” Avenue | Lawton | OK | 73502 | 332,400 | 554
37. Housing Authority of the Peoria Tribe of Indians | William Blalock | P.O. Box 1304 | Miami | OK | 74335 | 259,200 | 432
38. Chickasaw Nation Division of Housing | Wayne Scribner | 901 N. Country Club Road | Ada | OK | 74820 | 937,040 | 1,802
39. Housing Authority of the Cherokee Nation of OK | Hastings Shade | P.O. Box 948 | Tahlequah | OK | 74465-0948 | 1,607,840 | 3,092
40. Muscogee (Creek) Nation of Oklahoma | Ann Hancock | P.O. Box 580 | Okmulgee | OK | 74447 | 560,277 | 1,846
41. Kaw Tribal Housing Authority | Maryln Springer | P.O. Box 371, #9 Kanza Lane | Newkirk | OK | 74647 | 70,200 | 117
42. Warm Springs Housing Authority | Chester VanPelt | P.O. Box 1167, 1238 Veteran Way | Warm Springs | OR | 97761 | 121,800 | 203
43. Rosebud Sioux Tribe | William Kindle | P.O. Box 430 | Rosebud | SD | 57570 | 653,400 | 1,161
44. Sisseton Wahpeton Housing Authority | Ron Jones | P.O. Box 687 | Sisseton | SD | 57262 | 371,400 | 619
45. Cheyenne River Housing Authority | Wayne Ducheneaux | P.O. Box 480 | Eagle Butte | SD | 57625 | 540,600 | 901
46. Oglala Sioux Lakota Housing Authority | Paul Iron Cloud | P.O. Box C | Pine Ridge | SD | 57770 | 791,960 | 1,523
47. Yankton Sioux Tribal Housing Authority | Joseph Abdo, Jr. | 410 South Main Street | Wagner | SD | 57380 | 187,700 | 313
48. Lummi Indian Nation | Joseph Finkbonner | 2616 Kwina Road | Bellingham | WA | 98226 | 198,549 | 331
49. Quileute Housing Authority | Audrey Grafstrom | P.O. Box 159 | La Push | WA | 98350 | 39,000 | 65
50. Suquamish Tribe | Bennie Armstrong | P.O. Box 498 | Suquamish | WA | 98392 | 43,200 | 72
51. Spokane Indian Housing Authority | Brook Kristovich | P.O. Box 195 | Wellpinit | WA | 99040 | 174,600 | 291
52. La Du Flambeau Chippewa Housing Authority | Glory Allen | P.O. Box 187 | La Du Flambeau | WI | 54538 | 196,200 | 327
53. Ho Chunk Housing Authority | Myra Price | P.O. Box 730 | Tomah | WI | 54660 | 106,800 | 178
54. Menominee Indian Tribe of Wisconsin | Betty Wozniak | P.O. Box 910 | Keshena | WI | 54135 | 291,600 | 486
55. Stockbridge-Munsee Community | Robert Chicks | P.O. Box 70 | Bowler | WI | 54416 | 57,600 | 96
56. Lac Courte Oreilles Housing Authority | Lorene Wielgot | 13416 W. Trepania Road | Hayward | WI | 54843 | 271,200 | 452
57. Northern Arapaho Tribal Housing | Frank Armajo | P.O. Box 8236 | Ethete | WY | 82520 | 232,200 | 387

[FR Doc. 00-32218 Filed 12-18-00; 8:45 am]

BILLING CODE 4210-33-M